DEPARTMENT OF ENERGY

Federal Energy Regulatory Commission

Notice of Application for Non-Project Use of Project Lands and Soliciting Comments, Motions To Intervene, and Protests

October 9, 2003.

Take notice that the following application has been filed with the Commission and is available for public inspection:

a. Application Type: Non-Project Use of Project Lands.

b. Project No: 2067-021.

c. Date Filed: July 30, 2003.

d. Applicant: Oakdale & San Joaquin Irrigation Districts.

e. Name of Project: Tulloch.

f. Location: The project is located on the Stanislaus River, in Tuolumne and Calavaras Counties, California. This proposal will not affect any federal or tribal lands.

g. Filed Pursuant to: Federal Power Act, 16 U.S.C. 791(a)-825(r) and 799 and 801.

h. Applicant Contact: Steve Felte, General Manager, Tri-Dam Project, P.O. Box 1158, Pinecrest, California 95364, (209) 965-3996.

i. FERC Contact: Any questions on this notice should be addressed to Mrs. Jean Potvin at (202) 502-8928, or e-mail address: jean.potvin@ferc.gov.

j. Deadline for filing comments and or motions: November 10, 2003.

All documents (original and eight copies) should be filed with: Ms. Magalie R. Salas, Secretary, Federal Energy Regulatory Commission, 888 First Street, NE., Washington DC 20426. Please include the project number (P-2067-021) on any comments or motions filed. Comments, protests, and interventions may be filed electronically via the internet in lieu of paper. See, 18 CFR 385.2001(a)(1)(iii) and the instructions on the Commission's Web site at http://www.ferc.gov under the “e-Filing” link. The Commission strongly encourages e-filings.

k. Description of Request: The licensee proposes to permit the following within the project boundary: (1) A 3,000 square foot dock to be used for boat and jet ski rentals and boat lift slips; (2) the addition of a bumper boat rental and corral style dock for recreation at the water surface; (3) reconfiguration and modernization of the existing fueling dock; (4) the addition of a new graded access area for fishermen with a picnic facility (constructed) and (5) the addition of a breakwater to be located around the boat rental and refueling area. The following upgrades are being purposed above the 515-foot elevation outside of the project boundary: (1) The addition of five new rental cabins (constructed); (2) the addition of one new cabana (constructed); (3) the addition of nine new campsites and the connector driveway to each, in a blue oak woodland between Tulloch Dam Road and cabins #1-5, south of the marshy wetland.

l. Location of the Application: This filing is available for review at the Commission in the Public Reference Room, located at 888 First Street, NE, Room 2A, Washington, D.C. 20426, or may be viewed on the Commission's Web site at http://www.ferc.gov using the “eLibrary” link. Enter the docket number excluding the last three digits in the docket number field to access the document. For assistance, please call the Helpline at (866) 208-3676 or contact FERCOnLineSupport@ferc.gov. For TTY, contact (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

Agency Comments: Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E3-00260 Filed 11-14-03; 8:45 am]

BILLING CODE 6717-01-P